SURFACE TRANSPORTATION BOARD

[Docket No. AB 1342X]

Arkansas Louisiana & Mississippi Railroad Co.—Discontinuance of Service Exemption—in Morehouse Parish, La.

Arkansas Louisiana & Mississippi Railroad Co. (ALM) has filed a verified notice of exemption ¹ under 49 CFR part 1152 subpart F—Exempt Abandonments and Discontinuances of Service to discontinue service over an approximately 9.32-mile rail line between milepost 551.25 and milepost 560.57 in Morehouse Parish, La. (the Line).² The Line traverses U.S. Postal Service Zip Codes 71229, 71220, and 71221. No stations exist on the Line.

¹ ALM submitted its verified notice of exemption on January 27, 2025, and filed a supplement on January 29, 2025. In light of the supplement, January 29, 2025, is deemed the filing date of the verified notice.

² ALM states that it obtained authority to lease the Line from Union Pacific Railroad Company (UP) in 2014 for the purpose of shifting the ALM/UP interchange location. See Ark. La. & Miss. R.R.—Lease & Operation Exemption Including Interchange Commitment—Union Pac. R.R., FD 35862 (STB served Dec. 12, 2014). According to ALM, the parties' lease expires on March 31, 2025, and the parties do not intend to renew it. (Verified Notice 1.)

ALM has certified that: (1) no local traffic has moved over the Line since before 2014; (2) any overhead traffic on the Line can be rerouted to other lines; (3) no formal complaint filed by a user of rail service on the Line (or a state or local government entity acting on behalf of such user) regarding cessation of service over the Line either is pending with the Surface Transportation Board or any U.S. District Court or has been decided in favor of a complainant within the last two years; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ³ to subsidize continued rail service has been received, this exemption will be effective on March 20, 2025, unless stayed pending reconsideration.⁴ Petitions to stay that do not involve environmental issues and formal expressions of intent to file an OFA to subsidize continued rail service under 49 CFR 1152.27(c)(2) ⁵ must be filed by February 28, 2025.⁶ Petitions for reconsideration must be filed by March 10, 2025.

³ Persons interested in submitting an OFA to subsidize continued rail service must first file a formal expression of intent to file an offer, indicating the intent to file an OFA for subsidy and demonstrating that they are preliminarily financially responsible. See 49 CFR 1152.27(c)(2)(i).

⁴ ALM states that it intends to consummate its discontinuance of service on or after March 31, 2025.

⁵ The filing fee for OFAs can be found at 49 CFR 1002.2(f)(25).

⁶ Because this is a discontinuance proceeding and not an abandonment, interim trail use/rail banking and public use conditions are not appropriate. Because there will be an environmental review during abandonment, this discontinuance does not require environmental review.

All pleadings, referring to Docket No. AB 1342X, must be filed with the Surface Transportation Board via e-filing on the Board's website or in writing addressed to 395 E Street SW, Washington, DC 20423-0001. Additionally, a copy of each pleading filed with Board must be sent to ALM's representative, Justin J. Marks, Clark Hill PLC, 1001 Pennsylvania Ave. NW, Suite 1300 South, Washington, DC 20004.

If the verified notice contains false or misleading information, the exemption is void ab initio.

Board decisions and notices are available at www.stb.gov.

Decided: February 12, 2025.
By the Board, Mai T. Dinh, Director, Office of Proceedings.
Stefan Rice,
Clearance Clerk.

[FR Doc. 2025-02725 Filed 2-14-25; 8:45 am]

BILLING CODE 4915-01-P